ENVIRONMENTAL PROTECTION AGENCY

[FRL-6914-2]

Agency Information Collection Activities; Submission for OMB Review; Comment Request; Measuring Success of EPA Compliance Assistance

AGENCY: Environmental Protection Agency (EPA).

ACTION: Notice.

SUMMARY: In compliance with the Paperwork Reduction Act (44 U.S.C. 3501 et seq.), this notice announces that the following Information Collection Request (ICR) has been forwarded to the Office of Management and Budget (OMB) for approval: Measuring Success of EPA Compliance Assistance ICR number 1921.01. The ICR describes the nature of the information collection, the expected burden and cost to collect the information, and the actual collection instruments.

DATES: Comments must be submitted on or before January 10, 2001.

ADDRESSES: Send comments, referencing EPA ICR No. 1921.01 to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by email at farmer.sandy@epa.gov, or download off the Internet at http://www.epa.gov/icr and refer to EPA ICR No. 1921.01. For technical questions about the ICR contact Tracy Back, Office of Compliance, (202) 564-7076.

SUPPLEMENTARY INFORMATION: Title: Information Collection Request for Compliance Assistance Tool Evaluation Surveys, EPA ICR Number 1921.01. This is a new collection.

Abstract: This will be a voluntary collection of information to gather customer satisfaction and behavioral change feedback on EPA compliance assistance, as well as data on the resulting impact on compliance.

There are two components to this voluntary collection of information. First, EPA proposes to obtain customer feedback on a variety of compliance assistance tools and activities, including: Compliance assistance products; seminars/workshops; on-site visits; telephone assistance/hotlines; and Internet Websites. In addition to assessing customer satisfaction with EPA's compliance assistance tools and activities, EPA is also interested in learning what actions were or will be taken by survey respondents to improve their compliance status and environmental performance, in whole or in part, as a result of the compliance assistance provided by EPA.

Secondly, EPA proposes to seek information from state/local regulating agencies and committees regarding the impact of EPA's compliance assistance activities on the state of compliance. The regulating agencies and state/local committees will be asked whether EPA's compliance assistance initiatives resulted in improved compliance.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 10, 1999 (64 FR 43380); no comments were received.

It is estimated that approximately 317,920 entities may voluntarily complete and return a compliance assistance activity or tool assessment survey on an annual basis. EPA estimates that participating entities may need to spend between five to twenty minutes to complete either the complete compliance assistance product, seminar/workshop; on-site visit; telephone assistance/hotline; or internet website assessment survey. Therefore, a total of 28,374 person hours annually may be expended to provide EPA with data to evaluate the effectiveness of its compliance assistance tools and activities. This burden hour estimate translates to a cost of $6.24 per facility who voluntarily completes the survey and a total cost to industry of $1,966,295. The costs were calculated based on $33.00 per hour plus a 110 overhead for a total labor cost of $69.30.

In addition, EPA estimates that participating state and local governments may need to spend two hours and 55 minutes to complete the “impact of compliance activities” survey instrument. Therefore, a total of 2,306 person hours within the regulated community may be expended annually to provide EPA with data to evaluate the impact of its compliance assistance activities. This burden hour estimate translates to a cost of $1,610 per state or local government who voluntarily completes the survey and a total cost of $85,367. These costs were calculated based on labor rates of $17.48 per hour plus 110% overhead for a total labor rate of $36.71, plus $30.34 plus 110% overhead for a supervisory rate of $63.71. The labor rates were obtained from the United States of Commerce, Bureau of Labor Statistics, March 1998, Table 4: Employment Costs of State and Local Government.

Burden Statement: The average time to complete the survey for participating entities is 5-20 minutes and nearly 3 hours for state and local governments . Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: state/local agencies and participating entities that have used EPA compliance tools.

Estimated Number of Respondents: 317,920.

Frequency of Response: one time.

Estimated Total Annual Hour Burden: 30,679 hours.

Estimated Total Annualized Capital, O&M Cost Burden: $0.

Send comments on the Agency's need for this information, the accuracy of the provided burden estimates, and any suggested methods for minimizing respondent burden, including through the use of automated collection techniques to the addresses listed above. Please refer to EPA ICR No. 1921.01 in any correspondence.

Dated: November 28, 2000.
Oscar Morales,
Director, Collection Strategies Division.

[FR Doc. 00-31467 Filed 12-8-00; 8:45 am]

BILLING CODE 6560-50-U